CONSUMER PRODUCT SAFETY COMMISSION

[Docket No. CPSC-2010-0112]

Agency Information Collection Activities; Extension of Collection; Comment Request; Contests, Challenges, and Awards

AGENCY: Consumer Product Safety Commission.

ACTION: Notice of information collection; request for comment.

SUMMARY: As required by the Paperwork Reduction Act of 1995, the Consumer Product Safety Commission (CPSC or Commission) requests comments on a proposed extension of approval of a generic collection of information for CPSC-sponsored contests, challenges, and awards. The Office of Management and Budget (OMB) previously approved the collection of information under control number 3041-0151. OMB's most recent extension of approval will expire on January 31, 2024. The Commission will consider all comments received in response to this notice before requesting an extension of this collection of information from the Office of Management and Budget (OMB).

DATES: Submit comments on the collection of information by January 16, 2024.

ADDRESSES: You may submit comments, identified by Docket No. CPSC-2010-0112, within 60 days of publication of this notice by any of the following methods:

Electronic Submissions: Submit electronic comments to the Federal eRulemaking Portal at: http://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, Consumer Product Safety Commission, 4330 East West Highway, Bethesda, MD 20814; telephone (301) 504-7923.

Instructions: All submissions received must include the agency name and docket number for this notice. CPSC may post all comments without change, including any personal identifiers, contact information, or other personal information provided, to: http://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2010-0112 into the “Search” box, and follow the prompts.

FOR FURTHER INFORMATION CONTACT: Cynthia Gillham, Consumer Product Safety Commission, 4330 East West Highway, Bethesda, MD 20814; (301) 504-7791, or by email to: pra@cpsc.gov.

SUPPLEMENTARY INFORMATION: CPSC seeks to extend the following currently approved generic collection of information:

Title: Contests, Challenges, and Awards.

OMB Number: 3041-0151.

Type of Review: Extension of generic collection.

Frequency of Response: On occasion.

Affected Public: Contestants, award nominees, award nominators.

Estimated Number of Respondents: We estimate that there will be 500 contest or award participants each year. In addition, 20 participants may be required to provide additional information upon selection.

Estimated Time per Response: The estimated time to complete a contest or award submission is 5 hours per participant. In addition, the 20 participants expected to provide additional information upon selection will require approximately 2 additional hours.

Total Estimated Annual Burden: Based on CPSC's estimates that there will be 500 participants who each require 5 hours to complete their submissions, and that 20 participants will be asked to provide additional information that will take two hours to complete, CPSC estimates that the total annual burden of this collection is 2,540 hours. The annualized cost to respondents for the information collection is approximately $109,880 (2,540 hours × $43.26/hr), as estimated from total compensation data available from the U.S. Bureau of Labor Statistics.¹

¹ Total hourly compensation for all civilian workers is estimated by the U.S. Bureau of Labor Statistics to be $43.26: Employer Costs for Employee Compensation, June 2023, Table 1, (https://www.bls.gov/news.release/archives/ecec_09122023.pdf).

General Description of Collection: The Commission establishes contests, challenges, and awards to increase the public's knowledge and awareness of safety hazards. The Commission also recognizes through awards certain individuals, firms, and organizations that work to address issues related to consumer product safety. The information to be collected from contestants and award nominees or nominators includes contact and background information necessary to conduct a contest or award program. Limited background or biographical information similar to data found on a resume, such as a nominee's education and work experience, may be requested for some contests or awards. Additionally, substantive entries such as essays, posters, drawings, or videos may be requested for contestants and award nominees.

Request for Comments: The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2023-25193 Filed 11-14-23; 8:45 am]

BILLING CODE 6355-01-P